DEPARTMENT OF HOMELAND SECURITY

Office of the Secretary

Privacy Act of 1974; Consolidation of Department of Homeland Security Office of the Inspector General Systems of Records

AGENCY: Privacy Office, DHS.

ACTION: Notice to consolidate one Privacy Act system of records notice.

SUMMARY: In accordance with the Privacy Act of 1974, the Department of Homeland Security is giving notice that it proposes to consolidate the following Privacy Act system of records notices, FEMA/IG-1 General Investigative Files (55 FR 37182 September 7, 1990), into the existing Department of Homeland Security-wide system of records notice titled DHS/OIG-002 Office of Inspector General (OIG) Investigations Data Management System (IDMS) (70 FR 58448 October 6, 2005).

DATES: These changes will take effect on October 30, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is consolidating the system of records notice, FEMA/IG-1 General Investigative Files (55 FR 37182 September 7, 1990), that has been issued by the Federal Emergency Management Agency prior to the creation of the Department of Homeland Security.

DHS will continue to collect and maintain records regarding investigations and will rely upon the existing DHS-wide system of records notice titled Office of Inspector General (OIG) Investigations Data Management System (IDMS) (70 FR 58448 October 6, 2005).

Eliminating this notice will have no adverse impacts on individuals, but will promote the overall streamlining and management of DHS Privacy Act record systems.

Dated: September 24, 2008.
Hugo Teufel III,
Chief Privacy Officer, Department of Homeland Security.

[FR Doc. E8-23004 Filed 9-29-08; 8:45 am]

BILLING CODE 4410-10-P